DEPARTMENT OF DEFENSE

Department of the Army

[Docket ID USA-2011-0002]

Privacy Act of 1974; System of Records

AGENCY: Department of the Army, DoD.

ACTION: Notice to alter a system of records.

SUMMARY: The Department of the Army is proposing to alter a system of records notices in its existing inventory of record systems subject to the Privacy Act of 1974, (5 U.S.C. 552a), as amended.

DATES: This proposed action will be effective without further notice on March 2, 2011 unless comments are received which result in a contrary determination.

ADDRESSES: You may submit comments, identified by docket number and/Regulatory Information Number (RIN) and title, by any of the following methods:

• Federal Rulemaking Portal: http://www.regulations.gov. Follow the instructions for submitting comments.

• Mail: Federal Docket Management System Office, Room 3C842, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mr. Leroy Jones at (703) 428-6185, or Department of the Army, Privacy Office, U.S. Army Records Management and Declassification Agency, 7701 Telegraph Road, Casey Building, Suite 144, Alexandria, VA 22325-3905.

SUPPLEMENTARY INFORMATION: Department of the Army notices for systems of records subject to the Privacy Act of 1974 (5 U.S.C. 552a), as amended, have been published in the Federal Register and are available from the FOR FURTHER INFORMATION CONTACT address above.

The proposed system report, as required by 5 U.S.C. 552a(r) of the Privacy Act of 1974, as amended, was submitted on January 24, 2011, to the House Committee on Government Reform, the Senate Committee on Homeland Security and Governmental Affairs, and the Office of Management and Budget (OMB) pursuant to paragraph 4c of Appendix I to OMB Circular No. A-130, `Federal Agency Responsibilities for Maintaining Records About Individuals,' February 20, 1996, 61 FR 6427.

Dated: January 25, 2011.
Morgan F. Park,
Alternate OSD Federal Register Liaison Officer, Department of Defense.

A0621-1 AHRC

System name:

Civilian Schooling for Military Personnel (August 8, 2004, 69 FR 51271).

* * * * *

Changes:

System Name:

Delete entry and replace with “Army Continuing Education System Records.”

System location:

Delete entry and replace with “U.S. Army Human Resources Command, Chief, Army Continuing Education System, 200 Stovall Street, Alexandria, VA 22332-0400.

Segments exist at Army commands/installations, organizations/activities, including overseas areas. Official mailing addresses are published as an appendix to the Army's compilation of record systems notices.”

Categories of individuals covered by the system:

Delete entry and replace with “Any member of the U.S. Army to include Active Army, Army National Guard, Air National Guard and Army Reserve, veterans, military retirees, authorized adult family members, Federal civilian employees, members of other services to include members of their respective Reserve components and their authorized family members, and authorized foreign nationals.”

Categories of records in the system:

Delete entry and replace with “Identification data: name, rank, Social Security Number (SSN), race/ethnicity, gender, and marital status.

Contact information: home telephone number, fax number, personal e-mail address, mailing/home address, home of record address, State, work telephone number.

Military personnel information: military records, additional skill identifier, branch of service, component, current position and tour information, enlistment records, enlistment status, evaluations, foreign service, grade, military occupational specialty (primary, secondary), military service obligation statutory expiration date, military status, past military positions, photograph/DA photo, promotion data, qualification record.

Dependent education information: academic and diagnostic tests, academic evaluation reports, academic reports, American Council on Education recommendations, civilian education, course and associated fees, personal resumes, previous schools attended, school contracts, theses, training achievements, class standing, degree, major, university, fraternities (social, honorary, clubs), academic counseling records, course attendance and completion records, education level, test scores, transcript registry and course descriptors, and military education information.”

Authority for maintenance of the system:

Delete entry and replace with “10 U.S.C. 3013, Secretary of the Army; 10 U.S.C. 4302, Enlisted members of Army: schools; AR 621-5, Army Continuing Education System and E.O. 9397 (SSN), as amended.”

Purpose(s):

Delete entry and replace with “To document, monitor, manage, and administer the attendance at a civilian training agency or civilian school.”

Routine uses of records maintained in the system, including categories of users and the purposes of such uses:

Delete entry and replace with “In addition to those disclosures generally permitted under 5 U.S.C. 552a(b) of the Privacy Act of 1974, these records contained therein may specifically be disclosed outside the DoD as a routine use pursuant to 5 U.S.C. 552a(b)(3) as follows:

The DoD ‘Blanket Routine Uses' set forth at the beginning of the Army's compilation of systems of records notices also apply to this system.”

* * * * *

Retention and disposal:

Delete entry and replace with “Keep records for 2 years then destroy by shredding or deleting.”

* * * * *

Notification procedure:

Delete entry and replace with “Individuals seeking to determine if information about themselves is contained in this record system should address written inquiries to the Commander, U.S. Army Human Resources Command, 200 Stovall Street, Alexandria, VA 22332-0411.

All written inquiries should provide the full name, Social Security Number (SSN), date of birth, military status and current mailing address and any details which may assist in locating the record, and their signature.

In addition, the requester must provide a notarized statement or an unsworn declaration made in accordance with 28 U.S.C. 1746, in the following format:

If executed outside the United States:

I declare (or certify, verify, or state) under penalty of perjury under the laws of the United State of America that the foregoing is true and correct. Executed on (date). (Signature).

If executed within the United States, its territories, possessions, or commonwealths:

I declare (or certify, verify, or state) under penalty of perjury that the foregoing is true and correct. Executed on (date). (Signature).

Record access procedures:

Delete entry and replace with “Individuals seeking access to records about themselves contained in this record system should address written inquiries to the Commander, U.S. Army Human Resources Command, 200 Stovall Street, Alexandria, VA 22332-0411.

All written inquiries should provide the full name, Social Security Number (SSN), date of birth, military status and current mailing address and any details which may assist in locating the record, and their signature.

In addition, the requester must provide a notarized statement or an unsworn declaration made in accordance with 28 U.S.C. 1746, in the following format:

If executed outside the United States:

I declare (or certify, verify, or state) under penalty of perjury under the laws of the United States of America that the foregoing is true and correct. Executed on (date). (Signature).

If executed within the United States, its territories, possessions, or commonwealths:

I declare (or certify, verify, or state) under penalty of perjury that the foregoing is true and correct. Executed on (date). (Signature).

* * * * *

A0621-1 AHRC

System name:

Army Continuing Education System Records

System location:

U.S. Army Human Resources Command, Chief, Army Continuing Education System, 200 Stovall Street, Alexandria, VA 22332-0400.

Segments exist at Army commands/installations, organizations/activities, including overseas areas. Official mailing addresses are published as an appendix to the Army's compilation of record systems notices.

Categories of individuals covered by the system:

Any member of the U.S. Army to include Active Army, Army National Guard, Air National Guard and Army Reserve, veterans, military retirees, authorized adult family members, Federal civilian employees, members of other services to include members of their respective Reserve components and their authorized family members, and authorized foreign nationals.

Categories of records in the system:

Identification data: Name, rank, Social Security Number (SSN), race/ethnicity, gender, and marital status.

Contact information: Home telephone number, fax number, personal e-mail address, mailing/home address, home of record address, State, work telephone number.

Military personnel information: Military records, additional skill identifier, branch of service, component, current position and tour information, enlistment records, enlistment status, evaluations, foreign service, grade, military occupational specialty (primary, secondary), military service obligation statutory expiration date, military status, past military positions, photograph/DA photo, promotion data, qualification record.

Dependent education information: Academic and diagnostic tests, academic evaluation reports, academic reports, American Council on Education recommendations, civilian education, course and associated fees, personal resumes, previous schools attended, school contracts, theses, training achievements, class standing, degree, major, university, fraternities (social, honorary, clubs), academic counseling records, course attendance and completion records, education level, test scores, transcript registry and course descriptors, and military education information.

Authority for maintenance of the system:

10 U.S.C. 3013, Secretary of the Army; 10 U.S.C. 4302, Enlisted members of Army: schools; AR 621-5, Army Continuing Education System and E.O. 9397 (SSN), as amended.

Purpose(s):

To document, monitor, manage, and administer the attendance at a civilian training agency or civilian school.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD ‘Blanket Routine Uses' set forth at the beginning of the Army's compilation of systems of records notices also apply to this system.

Policies and practices for storing, retrieving, accessing, retaining, and disposing of records in the system:

Storage:

Paper records in file folders and electronic storage media.

Retrievability:

By individual's name and Social Security Number (SSN).

Safeguards:

Records are maintained in areas accessible only to authorized personnel and only in the performance of assigned duties. Use of automated systems requires user identification and passwords granted to authorized personnel responsible for the administration and processing of individual student data.

Retention and disposal:

Keep records for 2 years then destroy by shredding or deleting.

System manager(s) and address:

Commander, U.S. Army Human Resources Command, 200 Stovall Street, Alexandria, VA 22332-0400.

Notification procedure:

Individuals seeking to determine if information about themselves is contained in this record system should address written inquiries to the Commander, U.S. Army Human Resources Command, 200 Stovall Street, Alexandria, VA 22332-0411.

All written inquiries should provide the full name, Social Security Number (SSN), date of birth, military status and current mailing address and any details which may assist in locating the record, and their signature.

In addition, the requester must provide a notarized statement or an unsworn declaration made in accordance with 28 U.S.C. 1746, in the following format:

If executed outside the United States:

I declare (or certify, verify, or state) under penalty of perjury under the laws of the United State of America that the foregoing is true and correct. Executed on (date). (Signature).

If executed within the United States, its territories, possessions, or commonwealths:

I declare (or certify, verify, or state) under penalty of perjury that the foregoing is true and correct. Executed on (date). (Signature).

Record access procedures:

Individuals seeking access to records about themselves contained in this record system should address written inquiries to the Commander, U.S. Army Human Resources Command, 200 Stovall Street, Alexandria, VA 22332-0411.

All written inquiries should provide the full name, Social Security Number (SSN), date of birth, military status and current mailing address and any details which may assist in locating the record, and their signature.

In addition, the requester must provide a notarized statement or an unsworn declaration made in accordance with 28 U.S.C. 1746, in the following format:

If executed outside the United States:

I declare (or certify, verify, or state) under penalty of perjury under the laws of the United States of America that the foregoing is true and correct. Executed on (date). (Signature).

If executed within the United States, its territories, possessions, or commonwealths:

I declare (or certify, verify, or state) under penalty of perjury that the foregoing is true and correct. Executed on (date). (Signature).

Contesting record procedures:

The Army's rules for accessing records, and for contesting contents and appealing initial agency determinations are contained in Army Regulation 340-21; 32 CFR part 505; or may be obtained from the system manager.

Record source categories:

From the individual, Army records and reports, documents from the civilian school or industry training agency.

Exemptions claimed for the system:

None.

[FR Doc. 2011-1949 Filed 1-28-11; 8:45 am]

BILLING CODE 5001-06-P